DEPARTMENT OF COMMERCE

National Oceanic and Atmospheric Administration

50 CFR Part 648

[Docket No. 180411362-8362-01]

RIN 0648-XG168

Fisheries of the Northeastern United States; Monkfish Fishery; 2018 Monkfish Specifications

AGENCY: National Marine Fisheries Service (NMFS), National Oceanic and Atmospheric Administration (NOAA), Commerce.

ACTION: Final rule.

SUMMARY: We are implementing specifications for the 2018 monkfish fishery, including total allowable landings limits, trip limits, and day-at-sea limits. This action is necessary to ensure allowable monkfish harvest levels that will prevent overfishing and allow harvesting of optimum yield. This action is intended to establish the allowable 2018 harvest levels, consistent with the Monkfish Fishery Management Plan and previously announced multi-year specifications.

DATES: The final specifications for the 2018 monkfish fishery are effective June 4, 2018, through April 30, 2019.

FOR FURTHER INFORMATION CONTACT: Allison Murphy, Fishery Policy Analyst, (978) 281-9122.

SUPPLEMENTARY INFORMATION: The New England and Mid-Atlantic Fishery Management Councils jointly manage the monkfish fishery. The fishery is divided into Northern and Southern Fishery Management Areas and there are different management measures for each area. Primary effort controls include a yearly allocation of days-at-sea (DAS) and landing limits that are designed to enable the fishery to catch, but not exceed, its annual quotas. This action would continue specifications approved by the Councils in Framework Adjustment 10 to the Monkfish Fishery Management Plan, which included specifications for fishing years 2017-2019.

On July 12, 2017, we approved measures in Framework 10 for the 2017 fishing year (82 FR 32145), based on a recent stock assessment update and consistent with the Councils' Scientific and Statistical Committee recommendations. At that time, we also approved the projected specifications for 2018 and 2019. Approved measures for 2018 (Table 1) include total allowable landings (TAL) in both the Northern and Southern Fishery Management Areas, DAS limits, and trip limits. These 2018 measures are the same as 2017. All other requirements remain the same.

Table 1—Monkfish Specifications for Fishing Year 2018
Management area | TAL | DAS maximum | Incidental limit on a groundfish DAS | Possession limit when on a monkfish DAS
Northern Area | 6,338 |  | Category C: 900lb tail weight per DAS Category D: 750lb tail weight per DAS |
Southern Area | 9,011 | 37 |  | Category A/C: 700 lb tail weight per DAS. Category B/D: 575 lb tail weight per DAS.

We have reviewed available 2017 fishery information against the 2018 specifications. While we have exceeded the Northern Area total allowable landings, we do not expect that the annual catch limit will be exceeded. Further, there is no new biological information that would require altering the projected 2018 specifications. Neither Council has recommended any changes to the previous multi-year specifications. Based on this, we are implementing the 2018 specifications as outlined in the Framework 10 final rule (82 FR 32145, July 12, 2017). The 2018 specifications will be effective until April 30, 2019. We will finalize the 2019 fishing year specifications prior to May 1, 2019, by publishing another final rule.

The 2018 fishing year starts on May 1, 2018. The fishery management plan allows for the previous year's specifications to remain in place until replaced by a subsequent specifications action (rollover provision). As a result, the 2017 specifications remain in effect until replaced by the 2018 specifications included in this rule.

We will publish notice in the Federal Register of any revisions to these specifications if an overage occurs in 2018 that would require adjusting the 2019 projected specifications. We will provide notice of the final 2019 specifications prior to the May 1, 2019, start of the fishing year.

Classification

The NMFS Assistant Administrator has determined that this final rule is consistent with the Monkfish Management Plan, the Magnuson-Stevens Fishery Conservation and Management Act, and other applicable law.

This rule is exempt from review under Executive Order 12866.

Pursuant to 5 U.S.C. 553(b)(B), we find good cause to waive prior public notice and opportunity for public comment on the catch limit and allocation adjustments because allowing time for notice and comment is unnecessary. The Framework 10 proposed rule provided the public with the opportunity to comment on the 2017-2019 specifications (82 FR 21498, May 9, 2017). While comments in the Framework 10 final rule were mixed on whether limits should be liberalized or made more restrictive, no comments were received on the announced 2018 specifications. Thus, the proposed and final rules that contained the projected 2017-2019 specifications provided a full opportunity for the public to comment on the substance and process of this action. Furthermore, no circumstances or conditions have changed in the 2017 monkfish fishery that would cause new concern or necessitate reopening the comment period. Finally, the final 2018 specifications being implemented by this rule are unchanged from those projected in the Framework 10 final rule.

The Chief Counsel for Regulation, Department of Commerce, previously certified to the Chief Counsel for Advocacy of the Small Business Administration (SBA) that the 2017-2019 monkfish specifications would not have a significant economic impact on a substantial number of small entities. Implementing status quo specifications for 2018 will not change the conclusions drawn in that previous certification to the SBA. Because advance notice and the opportunity for public comment are not required for this action under the Administrative Procedure Act, or any other law, the analytical requirements of the Regulatory Flexibility Act, 5 U.S.C. 601, et seq., do not apply to this rule. Therefore, no new regulatory flexibility analysis is required and none has been prepared.

This action does not contain a collection of information requirement for the purposes of the Paperwork Reduction Act.

Authority: 16 U.S.C. 1801 et seq.

Dated: April 27, 2018.
Samuel D. Rauch, III,
Deputy Assistant Administrator for Regulatory Programs, National Marine Fisheries Service.

[FR Doc. 2018-09368 Filed 5-2-18; 8:45 am]

BILLING CODE 3510-22-P